FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Michael M. Grimm, Acting Chief, Hazard Study Branch, Federal Insurance and Mitigation Administration, Federal Emergency Management Agency, 500 C Street SW., Washington, DC 20472, (202) 646-3461, or (email) mike.grimm@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. Federal RegisterThis rule involves no policies that have federalism implications under Executive Order 12612, Federalism, dated October 26, 1987.

Executive Order 12778, Civil Justice Reform. This rule meets the applicable standards of section 2(b)(2) of Executive Order 12778.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. | *Elevation in feet (NGVD) | •Elevation in feet (NAVD)
MAINE
Newry (Town), Oxford County (FEMA Docket No. D-7542)
Sunday River:
At downstream corporate limits | *648
At upstream corporate limits | *845
Barkers Brook:
At the confluence with Sunday River | *649
A point approximately 240 feet upstream of Broadway Drive | *1,112
Maps available for inspection at the Newry Town Hall, 422 Bear River Road, Newry, Maine.
———
Turner (Town), Androscog- gin County (FEMA Docket No. D-7546)
Nezinscot River:
At confluence with Androscoggin River | *274
At upstream corporate limits | *315
Androscoggin River:
At downstream corporate limits | *264
At upstream corporate limits | *281
Maps available for inspection at the Turner Town Office, 11 Turner Center Road, Turner, Maine.
NEW YORK
Plattsburgh (City), Clinton County (FEMA Docket No. D-7538)
Saranac River:
Approximately 200 feet upstream of Delaware and Hudson Railroad | *103
At the upstream corporate limits | *189
Maps available for inspection at the Plattsburgh City Building Inspector's Office, 41 City Hall Place, Plattsburgh, New York.
———
Plattsburgh (Town), Clinton County (FEMA Docket No. D-7538)
Saranac River:
Approximately 0.75 mile downstream of Indian Rapids Dam | *188
Approximately 1.9 mile upstream of Harney Bridge Road | *736
Maps available for inspection at the Plattsburgh Town Hall, 151 Banker Road, Plattsburgh, New York.

(Catalog of Federal Domestic Assistance No. 83.100, “Flood Insurance.”)
Dated: December 31, 2002.
Anthony S. Lowe,
Administrator, Federal Insurance and Mitigation Administration.

[FR Doc. 03-605 Filed 1-10-03; 8:45 am]

BILLING CODE 6718-04-P